DEPARTMENT OF THE INTERIOR

National Park Service

[NPS-WASO-NAGPRA-11860; 2200-1100-665]

Notice of Intent To Repatriate Cultural Items: Northwest Museum of Arts & Culture, Spokane, WA

AGENCY: National Park Service, Interior.

ACTION: Notice.

SUMMARY: The Northwest Museum of Arts & Culture, also known as the Eastern Washington State Historical Society, in consultation with the appropriate Indian tribe, has determined that the cultural items meet the definition of unassociated funerary objects and repatriation to the Indian tribe stated below may occur if no additional claimants come forward. Representatives of any Indian tribe that believes itself to be culturally affiliated with the cultural items may contact the Northwest Museum of Arts & Culture.

DATES: Representatives of any Indian tribe that believes it has a cultural affiliation with the cultural items should contact the Northwest Museum of Arts & Culture at the address below by February 11, 2013.

ADDRESSES: Ms. Valerie Wahl, The Northwest Museum of Arts & Culture, Spokane, WA 99201, telephone (509) 363-5307.

SUPPLEMENTARY INFORMATION: Notice is here given in accordance with the Native American Graves Protection and Repatriation Act (NAGPRA), 25 U.S.C. 3005, of the intent to repatriate cultural items in the possession of the Northwest Museum of Arts & Culture, also the Eastern Washington State Historical Society, Spokane, WA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

History and Description of the Cultural Items

The funerary objects described below were excavated by Donald Collier, Alfred E. Hudson, and Arlo Ford during the construction of the Grand Coulee Dam and its reservoir (Lake Roosevelt) whose waters would soon cover the area. This undertaking was known as “The Columbian Basin Archaeological Survey” or the “Collier, Hudson, and Ford Project.” It was a multi-institutional venture of the Eastern Washington State Historical Society (now the Northwest Museum of Arts & Culture), the University of Washington, and the State College of Washington (now Washington State University). It was also a multi-agency venture of the Bureau of Reclamation, Bureau of Indian Affairs, Civilian Conservation Corps, and the Works Project Administration (including the National Youth Administration).

In 1940, the Eastern Washington State Historical Society became the repository for the collections of the project, as mandated by the Bureau of Reclamation. Portions of the land from which the funerary objects were removed were non-Federal lands, and other portions were Federal lands at the time of removal. Moreover, the Federal lands fell under the management authority of several different agencies. Consequently, there has been a question of control over the collection. After several years of research, the Northwest Museum of Arts & Culture has been unable to determine additional specifics regarding the control of objects from each site. Therefore, absent additional information, the Northwest Museum of Arts & Culture is assuming responsibility under NAGPRA with regard to publishing this notice and repatriating the unassociated funerary objects to the culturally affiliated tribe.

During the period July 1939 to September 1940, funerary objects were systematically removed from Site 8 (45-ST-8) by Donald Collier, Alfred E. Hudson, and Arlo Ford during the construction of the Grand Coulee Dam and its reservoir (Lake Roosevelt). The objects were accessioned by the Eastern Washington State Historical Society in 1940 (EWSHS Accession #1027). The one unassociated funerary object is a projectile point.

During the period July 1939 to September 1940, funerary objects were systematically removed from Site 48 (45-ST-48) by Donald Collier, Alfred E. Hudson, and Arlo Ford during the construction of the Grand Coulee Dam and its reservoir (Lake Roosevelt), The objects were accessioned by the Eastern Washington State Historical Society in 1940 (EWSHS Accession #1027). The three unassociated funerary objects are two copper ornaments and a blue glass bead.

The unassociated funerary objects described above are consistent with cultural items typically found in context with Native American burials in eastern Washington State. Furthermore, accession numbers, as well as field notes and journal entries, indicate that the cultural items were found in connection with human remains. Extensive museum documentation, the geographic locations of the sites, burial patterns, and consultation with the Spokane Tribe of the Spokane Reservation verify that the cultural items were removed from sites that are within the aboriginal territory of the bands of Indians now known as the Spokane Tribe of the Spokane Reservation.

Determinations Made by the Northwest Museum of Arts & Culture

Officials of the Northwest Museum of Arts & Culture have determined that:

• Pursuant to 25 U.S.C. 3001(3)(B), the four cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Spokane Tribe of the Spokane Reservation.

Additional Requestors and Disposition

Representatives of any other Indian tribe that believes itself to be culturally affiliated with the unassociated funerary objects should contact Ms. Valerie Wahl, The Northwest Museum of Arts & Culture, Spokane, WA 99201, telephone (509) 363-5307, before February 11, 2013. Repatriation of the unassociated funerary objects to the Spokane Tribe of the Spokane Reservation may proceed after that date if no additional claimants come forward.

The Northwest Museum of Arts & Culture is responsible for notifying the Spokane Tribe of the Spokane Reservation that this notice has been published.

Dated: December 5, 2012.
Sherry Hutt,
Manager, National NAGPRA Program.

[FR Doc. 2013-00456 Filed 1-10-13; 8:45 am]

BILLING CODE 4312-50-P